DEPARTMENT OF DEFENSE

Department of the Army; Corps of Engineers

Notice of Intent To Prepare a Draft Environmental Impact Statement for the Drawdown and Habitat Enhancement of East Lake Tohopekaliga in Osceola County, Florida

AGENCY: Department of the Army, U.S. Army Corps of Engineers, DoD.

ACTION: Notice of intent.

SUMMARY: The U.S. Army Corps of Engineers (USACE), Jacksonville District, Cocoa Permits Section field office, has received a request for Department of the Army (DA) authorization, pursuant to Section 404 of the Clean Water Act and Section 10 of the Rivers and Harbor Act of 1899, from the Florida Fish and Wildlife Conservation Commission (FWC) for activities associated with the proposed drawdown, vegetation removal, and demucking of East Lake Tohopekaliga (ELT) to improve habitat conditions for fish and wildlife. The drawdown would require a deviation to the Water Control Plan for ELT and a DA permit for proposed fill in waters of the United States.

DATES: The USACE will hold a public scoping meeting for the Draft EIS on December 5, 2017, at 7:00 p.m. Eastern Standard Time. Interested parties are invited to submit scoping comments to USACE by January 4, 2018.

ADDRESSES: The public scoping meeting will be held at Osceola Heritage Park, 1875 Silver Spur Lane, Kissimmee, FL 34744. Scoping comments may be submitted by mail or hand-delivered to: Jeffrey S. Collins, U.S. Army Corps of Engineers, Cocoa Permits Section, 400 High Point Drive, Suite 600, Cocoa, FL 32926. Comments may also be submitted by email to: jeffrey.s.collins@usace.army.mil. All comments should include “East Lake Tohopekaliga Drawdown Comments” in the subject line.

FOR FURTHER INFORMATION CONTACT: Questions about the Proposed Action and Draft EIS should be directed to Mr. Collins by telephone at (321) 504-3771 or by email: jeffrey.s.collins@usace.army.mil.

SUPPLEMENTARY INFORMATION: 1. Background/Project Authorization. USACE is preparing this Draft EIS in accordance with National Environmental Policy Act (NEPA), Council on Environmental Quality (CEQ) Regulations (40 Code of Federal Regulation [CFR] 1500 et seq.), and USACE provisions for implementing the procedural requirements of NEPA (33 CFR 230, USACE Engineering Regulation [ER] 200-2-2). A primary purpose of a USACE Regulatory Program EIS is to provide disclosure of the significant impacts of a proposal seeking a DA permit on the human environment. The Draft EIS and Final EIS are used to inform the public and agency decision-makers of alternatives to an applicant's project that may avoid or minimize impacts or enhance the quality of the human environment.

The EIS will address all the requirements of NEPA including applicable federal and state laws, regulations, and executive orders. A partial list of statutes to be addressed in the EIS includes: Section 404 of the Clean Water Act (33 U.S.C. 1344) and Section 10 of the Rivers and Harbors Act of 1899 (33 U.S.C. 403); Coastal Zone Management Act; Clean Air Act; Magnuson-Stevens Fishery Conservation and Management Act; Endangered Species Act; Fish and Wildlife Coordination Act; National Historic Preservation Act; Archeological and Historic Preservation Act; and Executive Order 11990, Protection of Wetlands. Additional authority is provided in 33 CFR 222.5, Water Control Management (ER 1110-2-240).

2. Need or Purpose of Project. The purpose of the proposed activity is aquatic habitat improvement in ELT. Major contributors to deteriorating aquatic habitat in the ELT are water level stabilization and pollution from watershed development. Negative environmental changes include an increase in aquatic plant density and biomass, organic sediments, and a shift to invasive species. Dense bands of organic material have formed along the lakeshore and, combined with aquatic plants such as pickerelweed, cattail, and tussucks, form a barrier that keeps fish from shallow spawning areas. Decline in coverage of desirable aquatic vegetation negatively impact the diversity and abundance of forage organisms that depend on these plant communities. In turn, this directly contributes to reduced sport fish production and wading bird utilization.

3. Project Description. East Lake Tohopekaliga is an approximately 11,968-acre lake located in the Kissimmee Chain of Lakes. FWC is pursuing authorization from USACE, Jacksonville District Regulatory Division, to conduct a temporary drawdown of ELT to accomplish demucking and vegetation removal activities for purposes of littoral zone habitat enhancement. FWC proposes to draw down ELT in Osceola County from 57.0 National Geodetic Vertical Datum (NGVD) feet to 53.0 NGVD feet. Four pumps (combined capacity of 400 cfs) are proposed to be used to drain ELT; pumps are required because gravity-fed conveyance becomes inefficient as the lower ELT stage approaches that of Lake Tohopekaliga. The proposed drawdown would begin in October-November 2018, work conducted in February-May 2019, with the refill initiated in June 2019. Other proposed activities include:

a. Modification of the Lake Tohopekaliga and ELT regulation schedules as established by the USACE Water Control Plan, to allow a temporary deviation in water levels in both lakes.

b. Installation of sheet piling and a flood control pump in the canal between ELT and Fells Cove, and in the canal between ELT and Lake Runnymede. These constructed elements may be necessary to maintain normal lake stages upstream of the canals.

c. Approximately 115 acres of littoral zone will be mechanically scraped along the east shore and consolidated into two 1-2 acre in-lake spoil islands. Woody vegetation within the scrape zone would be piled and burned.

d. Vegetation on the west shore would be sprayed with herbicide and subsequently burned.

4. Issues. Preliminary environmental and public interest factors have been identified and would be addressed in the EIS. Additional issues may be identified during the scoping process through commenting cooperating agencies and the public. USACE has preliminarily identified potential issues to include:

a. Potential impacts to threatened and endangered species, particularly the Everglades snail kite (Rostrhamus sociabilis plumbeus).

b. Required alteration of the Water Control Plan. The Master Water Control Manual for Kissimmee River-Lake Istokpoga Basin (USACE, 1994), which contains the relevant Water Control Plan, specifies coordination with USACE South Atlantic Division for review and approval of planned deviation requests.

c. Potential impacts to navigation, both commercial and recreational.

d. Potential aesthetic impacts to landowners with a viewshed of proposed disposal islands.

e. Potential impacts on public health and safety.

f. Potential impacts on waterborne recreation activities.

g. Potential impacts to cultural resources.

h. Potential economic impact on local businesses.

i. Potential air quality during burning of woody debris.

j. Potential water quality impacts during ELT drawdown, muck removal and creation of islands.

k. Potential concern regarding downstream discharges resulting from the ELT Drawdown.

l. Cumulative impacts of past, present and foreseeable future projects affecting ELT.

5. Alternatives. The Draft EIS will analyze reasonable alternatives to meet the project purpose and need. These alternatives will be further developed during the scoping process and an appropriate range of alternatives, including the no federal action alternative, will be considered in the EIS. Other preliminary alternatives to be considered include: Effectuating ELT drawdown with pumps; ELT drawdown without pumps; disposing of spoil material by truck-hauling off-site; and disposing of spoil material using in-lake disposal islands.

6. Scoping Process. USACE is furnishing this notice to advise other Federal and State agencies, affected federally recognized Tribes, and the public of the proposed project. This notice announces the initiation of a 30-day scoping period which requests the public's involvement in the scoping and evaluation process of the Draft EIS. A public scoping meeting (see DATES) will be held to receive public comment and address public concerns concerning the scope of issues and level of analysis to be considered in preparation of the Draft EIS. Participation in the public meeting by federal, state and local agencies and other interested organizations and persons is encouraged. A detailed description of the study area will be developed following the scoping meeting, at which time USACE will determine the final study area for the EIS.

7. Public Involvement. The USACE invites Federal agencies, American Indian Tribal Nations, state and local governments, and other interested private organizations and parties to attend the public scooping meeting and to provide comments in order to ensure that all significant issues are identified and the full range of issues related to the permit request are addressed.

8. Coordination. The proposed action is being coordinated with a number of Federal, state, regional, and local agencies including but not limited to the following: U.S. Fish and Wildlife Service, U.S. National Marine Fisheries Service, U.S. Environmental Protection Agency, Florida Department of Environmental Protection, federally recognized Native American Indian Tribes, Florida State Historic Preservation Officer, Osceola County, the City of St. Cloud, and other agencies as identified in scoping, public involvement, and agency coordination.

9. Agency Role. The USACE will be the lead agency for the EIS. The USACE expects to receive input and critical information from federal, state and local agencies (see Coordination), either as commenting or cooperating agencies.

10. Draft EIS Preparation. The Draft EIS is expected to be published and circulated in late spring 2018. A Notice of Availability will be issued, which will open the public comment period. Comments will be accepted during the Draft EIS public comment period, which will last approximately 30 days.

Dated: October 24, 2017.
Donald W. Kinard,
Chief, Regulatory Division.

[FR Doc. 2017-23977 Filed 11-2-17; 8:45 am]

BILLING CODE 3720-58-P